DEPARTMENT OF ENERGY

Federal Energy Regulatory Commission

Combined Notice of Filings #1

Take notice that the Commission received the following exempt wholesale generator filings:

Docket Numbers: EG11-79-000.

Applicants: Gila River Energy Supply LLC.

Description: Gila River Energy Supply LLC's Notice Of Self-Certification of Exempt Wholesale Generator Status.

Filed Date: 04/27/2011.

Accession Number: 20110427-5236.

Comment Date: 5 p.m. Eastern Time on Wednesday, May 18, 2011.

Take notice that the Commission received the following electric rate filings:

Docket Numbers: ER10-3169-002.

Applicants: Michigan Power Limited Partnership.

Description: Michigan Power Limited Partnership submits tariff filing per 35: Michigan Power Limited Partnership Baseline Amendment to be effective 9/29/2010.

Filed Date: 04/27/2011.

Accession Number: 20110427-5222.

Comment Date: 5 p.m. Eastern Time on Wednesday, May 18, 2011.

Docket Numbers: ER11-2090-002.

Applicants: Duke Energy Hanging Rock II, LLC.

Description: Duke Energy Hanging Rock II, LLC submits tariff filing per 35: Compliance Filing Docket ER11-2090 to be effective 4/1/2011.

Filed Date: 04/27/2011.

Accession Number: 20110427-5193.

Comment Date: 5 p.m. Eastern Time on Wednesday, May 18, 2011.

Docket Numbers: ER11-2091-002.

Applicants: Duke Energy Washington II, LLC.

Description: Duke Energy Washington II, LLC submits tariff filing per 35: Compliance Filing Docket ER11-2091 to be effective 4/1/2011.

Filed Date: 04/27/2011.

Accession Number: 20110427-5172.

Comment Date: 5 p.m. Eastern Time on Wednesday, May 18, 2011.

Docket Numbers: ER11-2095-002.

Applicants: Duke Energy Fayette II, LLC.

Description: Duke Energy Fayette II, LLC submits tariff filing per 35: Compliance Filing Docket ER11-2095 to be effective 4/1/2011.

Filed Date: 04/27/2011.

Accession Number: 20110427-5182.

Comment Date: 5 p.m. Eastern Time on Wednesday, May 18, 2011.

Docket Numbers: ER11-3438-000.

Applicants: Southwest Power Pool, Inc.

Description: Southwest Power Pool, Inc. submits tariff filing per 35.13(a)(2)(iii: Submission of Change to OG&E Pricing Zone Rate to be effective 1/1/2011.

Filed Date: 04/27/2011.

Accession Number: 20110427-5129.

Comment Date: 5 p.m. Eastern Time on Wednesday, May 18, 2011.

Docket Numbers: ER11-3439-000.

Applicants: Duke Energy Lee II, LLC.

Description: Duke Energy Lee II, LLC submits tariff filing per 35: Compliance Filing Docket ER11-2094 to be effective 4/1/2011.

Filed Date: 04/27/2011.

Accession Number: 20110427-5132.

Comment Date: 5 p.m. Eastern Time on Wednesday, May 18, 2011.

Docket Numbers: ER11-3440-000.

Applicants: Ohio Valley Electric Corporation.

Description: Ohio Valley Electric Corporation submits tariff filing per 35.15: Cancellation of ICPA and OVEC-IKEC to be effective 5/23/2011.

Filed Date: 04/27/2011.

Accession Number: 20110427-5146.

Comment Date: 5 p.m. Eastern Time on Wednesday, May 18, 2011.

Docket Numbers: ER11-3441-000.

Applicants: Ohio Valley Electric Corporation.

Description: Ohio Valley Electric Corporation submits tariff filing per 35.1: Power Agreements to be effective 5/23/2011.

Filed Date: 04/27/2011.

Accession Number: 20110427-5153.

Comment Date: 5 p.m. Eastern Time on Wednesday, May 18, 2011.

Docket Numbers: ER11-3442-000.

Applicants: Southwestern Public Service Company.

Description: Southwestern Public Service Company submits tariff filing per 35.13(a)(2)(iii: 4-27-11_RS102 SPS-PNM to be effective 7/16/2010.

Filed Date: 04/27/2011.

Accession Number: 20110427-5155.

Comment Date: 5 p.m. Eastern Time on Wednesday, May 18, 2011.

Docket Numbers: ER11-3443-000.

Applicants: UNS Electric, Inc.

Description: UNS Electric, Inc. submits tariff filing per 35.13(a)(2)(iii: Amendment to SGIA of UNSE to be effective 4/28/2011.

Filed Date: 04/27/2011.

Accession Number: 20110427-5213.

Comment Date: 5 p.m. Eastern Time on Wednesday, May 18, 2011.

Docket Numbers: ER11-3444-000.

Applicants: Tucson Electric Power Company.

Description: Tucson Electric Power Company submits tariff filing per 35.13(a)(2)(iii: Amendment to SGIA and LGIA of Tucson Electric Power Company to be effective 4/28/2011.

Filed Date: 04/27/2011.

Accession Number: 20110427-5218.

Comment Date: 5 p.m. Eastern Time on Wednesday, May 18, 2011.

Docket Numbers: ER11-3445-000.

Applicants: PJM Interconnection, L.L.C.

Description: PJM Interconnection, L.L.C. submits tariff filing per 35: Compliance Filing in Docket No. ER11-12-001 to be effective N/A.

Filed Date: 04/27/2011.

Accession Number: 20110427-5248.

Comment Date: 5 p.m. Eastern Time on Wednesday, May 18, 2011.

Docket Numbers: ER11-3446-000.

Applicants: Cleco Power LLC.

Description: Cleco Power LLC submits tariff filing per 35.13(a)(2)(iii: SA 125 Entergy CIAC to be effective 4/4/2011.

Filed Date: 04/28/2011.

Accession Number: 20110428-5067.

Comment Date: 5 p.m. Eastern Time on Thursday, May 19, 2011.

Docket Numbers: ER11-3447-000.

Applicants: Alpha Gas and Electric LLC.

Description: Alpha Gas and Electric LLC submits tariff filing per 35.13(a)(2)(iii: Market based rate tariff database to be effective 4/29/2011.

Filed Date: 04/28/2011.

Accession Number: 20110428-5097.

Comment Date: 5 p.m. Eastern Time on Thursday, May 19, 2011.

Docket Numbers: ER11-3448-000.

Applicants: California Power Exchange Corporation.

Description: California Power Exchange Corporation submits tariff filing per 35.13(a)(2)(iii: California Power Exchange FERC Rate Schedule No. 1 for Rate Period 19 to be effective 7/1/2011.

Filed Date: 04/28/2011.

Accession Number: 20110428-5230.

Comment Date: 5 p.m. Eastern Time on Thursday, May 19, 2011.

Docket Numbers: ER11-3449-000.

Applicants: Midwest Independent Transmission System, Ameren Illinois Company.

Description: Midwest Independent Transmission System Operator, Inc. submits tariff filing per 35.13(a)(2)(iii: Ameren-Dynegy-Pana Trans Upgrade to be effective 4/30/2011.

Filed Date: 04/28/2011.

Accession Number: 20110428-5250.

Comment Date: 5 p.m. Eastern Time on Thursday, May 19, 2011.

Take notice that the Commission received the following land acquisition reports:

Docket Numbers: LA11-1-000.

Applicants: Eurus Energy America Corporation.

Description: Eurus Energy America Corporation Report of Site Control and Request for Waiver.

Filed Date: 04/28/2011.

Accession Number: 20110428-5199.

Comment Date: 5 p.m. Eastern Time on Thursday, May 19, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: April 28, 2011.
Nathaniel J. Davis, Sr.,
Deputy Secretary.

[FR Doc. 2011-10827 Filed 5-3-11; 8:45 am]

BILLING CODE 6717-01-P